DEPARTMENT OF TRANSPORTATION

Federal Aviation Administration

Nineteenth Meeting: RTCA Special Committee 203: Unmanned Aircraft Systems

AGENCY: Federal Aviation Administration (FAA), DOT.

ACTION: Notice of RTCA Special Committee 203 meeting: Unmanned Aircraft Systems.

SUMMARY: The FAA is issuing this notice to advise the public of a meeting of RTCA Special Committee 203: Unmanned Aircraft Systems.

DATES: The meeting will be held May 17-19, 2011, from 9 a.m. to 5 p.m., unless stated otherwise in agenda.

ADDRESSES: The meeting will be held at RTCA, Inc., Conference Rooms, 1828 L Street, NW., Suite 805, Washington, DC 20036.

FOR FURTHER INFORMATION CONTACT: RTCA Secretariat, 1828 L Street, NW., Suite 805, Washington, DC, 20036, telephone (202) 833-9339, fax (202) 833-9434, Web site http://www.rtca.org.

SUPPLEMENTARY INFORMATION: Pursuant to section 10(a) (2) of the Federal Advisory Committee Act (Pub. L. 92-463, 5 U.S.C., and Appendix 2), notice is hereby given for a Special Committee 203, Unmanned Aircraft Systems.

Agenda

Tuesday, May 17

• Morning—Opening Plenary Session

• Welcome/Introductions and Administrative Remarks

• Approval of Summary of 17th Plenary Summary

• Plenary Presentations

• Chairperson/Leadership Updates

• Designated Federal Official (DFO) Update

• Work Plan Status

• Work Group Update

• Overview of Product Team Breakout Session

• Closing Plenary Session

• Plenary Adjourns

• RTCA Workspace Web Tool

• Mid-Morning/Afternoon—Workgroup Breakout Sessions

• Systems Engineering Workgroup

• Requirements Status and Overview

• AV2 Overview

• Control and Communications Workgroup

• Sense and Avoid Workgroup

• Ad Hoc Group Report

• Architecture Group Report

• Modeling and Simulation Group Report

• Safety Workgroup

• Ad Hoc Activities Update

Wednesday, May 18

• All Day—Work Group Breakout Sessions

• Systems Engineering Workgroup

• Workgroup Support Discussion and Assignments

• Work Products and Schedule

• MASPS Discussion and Assignments

• OV6c for SA Deployment

• Control and Communications Workgroup

• Spectrum Paper Update

• Continuity Paper Update

• Availability Paper Updates

• Sense and Avoid Workgroup

• Discussion of MASPS contents and Organization

• Safety Workgroup

• Severity and Probability Definitions Status

• FHA Worksheet Review/Development

Thursday, May 19

• Morning—Workgroup Breakout Session

• Systems Engineering Workgroup

• OV6c Continued

• Control and Communications Workgroup

• Modeling and Simulation

• Requirements Review

• Sense and Avoid Workgroup

• High-level algorithm requirements

• Schedule Update

• Safety Workgroup

• FHA worksheet Development

• Schedule Review and Update

• Afternoon—1-2 p.m. (unless otherwise stated)

• Workgroup Back Briefs

• Other Business

• Date, Place, and Time for next Plenary

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on April 26, 2011.
Robert L. Bostiga,
RTCA Advisory Committee.

[FR Doc. 2011-10631 Filed 5-2-11; 8:45 am]

BILLING CODE 4910-13-P